INTERNATIONAL TRADE COMMISSION

[Investigation No. 337-TA-801]

Certain Products Containing Interactive Program Guide and Parental Controls Technology; Modification of Initial Determination and Termination of Investigation

AGENCY: U.S. International Trade Commission.

ACTION: Notice.

SUMMARY: Notice is hereby given that the U.S. International Trade Commission has determined on review to modify the presiding administrative law judge's (“ALJ”) initial determination (“ID”) (Order No. 5) granting a joint motion by Complainants Rovi Corporation, Rovi Guides, Inc. (f/k/a Gemstar-TV International Inc.), United Video Properties, Inc., and Gemstar Development Corporation, all of Santa Clara, California (collectively “Rovi”) and Respondents Sharp Corporation of Osaka, Japan, Sharp Electronics Corporation of Mahwah, New Jersey and Sharp Manufacturing Company of America, Inc. of Mahwah, New Jersey (collectively “Sharp”) for termination of the investigation in its entirety based on a settlement agreement. On review, the Commission has modified the ID by further basing it on the final detailed agreement submitted by the parties.

FOR FURTHER INFORMATION CONTACT: Jean H. Jackson, Esq., Office of the General Counsel, U.S. International Trade Commission, 500 E Street SW., Washington, DC 20436, telephone (202) 205-3104. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 31, 2011, based on a complaint filed by Rovi. 76 FR 54253 (Aug. 31, 2011). The complaint alleges violations of section 337 of the Tariff Act of 1930, as amended, 19 U.S.C. 1337, by reason of infringement of certain claims of U.S. Patent Nos. 6,305,016; 7,493,643; and RE41,993.

On September 30, 2011, Rovi and Sharp filed a joint motion to terminate the investigation in its entirety based upon a settlement agreement. On October 4, 2011, the ALJ issued the subject ID (Order No. 5) granting the motion for termination of the investigation in its entirety. In the subject ID, the ALJ found that the parties satisfied all the requirements under 19 CFR 210.21(b)(1), including a statement that the parties have no other agreements concerning the subject matter of this investigation. The ALJ noted that the settlement agreement contemplates the execution of a more detailed agreement by October 30, 2011, but he found that the possibility of further agreements between the parties did not affect his initial determination to grant the joint motion for termination. No petitions for review were filed.

The Commission determined to review the ID on its own motion and required Rovi and Sharp to submit their detailed final agreement, so that the Commission could fully assess compliance with the requirements of 19 CFR 210.21(b)(1) and 210.50(b)(2). The parties filed their final agreement with the Commission on January 13, 2012. Upon consideration of that document, the Commission has determined that the parties' joint motion for termination complies with §§ 210.21(b)(1) and 210.50(b)(2). Accordingly, the Commission has modified the ALJ's ID to include a consideration of the final agreement.

The authority for the Commission's determination is contained in Section 337 of the Tariff Act of 1930, as amended (19 U.S.C. 1337), and in section 210.45 of the Commission's Rules of Practice and Procedure (19 CFR 210.45).

Issued: March 5, 2012.
By order of the Commission.
James R. Holbein,
Secretary to the Commission.

[FR Doc. 2012-5637 Filed 3-7-12; 8:45 am]

BILLING CODE 7020-02-P